DEPARTMENT OF JUSTICE

Antitrust Division

Notice Pursuant to the National Cooperative Research and Production Act of 1993—Digital Imaging Group, Inc.

Notice is hereby given that, on August 2, 2000, pursuant to section 6(a) of the National Cooperative Research and Production Act of 1993, 15 U.S.C. 4301 et seq. (“the Act”), Digital Imaging Group, Inc. has filed written notifications simultaneously with the Attorney General and the Federal Trade Commission disclosing changes in its membership status. The notifications were filed for the purpose of extending the Act's provisions limiting the recovery of antitrust plaintiffs to actual damages under specified circumstances. Specifically, Altamira Group, Burbank, CA; PhotoDex, Inc., Austin, TX; ScanSoft, Inc., Peabody, MA; Vyou.com Inc., San Jose, CA; The Workbook, Inc., Los Angeles, CA; NewHeights Software, Inc., Victoria, British Columbia, Canada; and BizDesign, Inc., Dallas, TX have been added as parties to this venture. Also, BrandEra.com, Toronto, Ontario, Canada; Digital Zone International A/S, Aarhus C, Denmark; FotoWire Development SA, Geneve, Switzerland; G&A Imaging, Hull, Quebec, Canada; Fonecam, San Diego, CA; NTT Communications, Tokyo, Japan; and Kablink Corporation, San Diego, CA have been dropped as parties to this venture.

No other changes have been made in either the membership or planned activity of the group research project. Membership in this group research project remains open, and Digital Imaging Group, Inc. intends to file additional written notification disclosing all changes in membership.

On September 25, 1997, Digital Imaging Group, Inc. filed its original notification pursuant to section 6(a) of the Act. The Department of Justice published a notice in the Federal Register pursuant to section 6(b) of the Act on November 10, 1997 (62 FR 60530).

The last notification was filed with the Department on May 4, 2000. A notice was published in the Federal Register pursuant to section 6(b) of the Act on August 1, 2000 (65 FR 46950).

Constance K. Robinson,
Director of Operations, Antitrust Division.

[FR Doc. 00-23422 Filed 9-12-00; 8:45 am]

BILLING CODE 4410-11-M